DEPARTMENT OF HEALTH AND HUMAN SERVICES

Extension of Comment Period for the Office of the Assistant Secretary for Preparedness and Response Public Access Plan to Federally Funded Research: Publications and Data

AGENCY: Department of Health and Human Services.

ACTION: Notice of extension of public comment period until July 13.

SUMMARY: The Department of Health and Human Services (HHS) is extending the comment period on the Assistant Secretary for Preparedness and Response (ASPR) Public Access Plan for Federally Funded Research: Publications and Data. The document is available to the public via http://www.phe.gov/Preparedness/planning/science/Pages/AccessPlan.aspx. The comment period was previously scheduled to end June 25, 2015. The public comment period is extended until July 13, 2015.

FOR FURTHER INFORMATION CONTACT: Please submit comments via email to Harvey.ball@hhs.gov

SUPPLEMENTARY INFORMATION: Pursuant to Section 103 of the America COMPETES Reauthorization Act of 2010 (Pub. L. 111-358), the Executive Office of the President, Office of Science and Technology Policy (OSTP) issued a memorandum on February 22, 2013 to the heads of federal agencies directing them to develop plans to enhance access to the results of federally-funded scientific research. ASPR is voluntarily developing a public access plan in order to maximize availability of digitally-formatted scientific data resulting from research supported wholly or in part by federal funding that will improve the public's ability to locate and access this data.

Background: This plan considers the interests and needs of various stakeholders, including, but not limited to, federally funded researchers, universities, libraries, publishers, data users and civil society groups.

Availability of Materials: The draft copy of the ASPR Public Access Plan will be posted on the phe.gov Web site: http://www.phe.gov/Preparedness/planning/science/Documents/AccessPlan.pdf.

Procedures for Providing Public Input: All comments must be received by July 13, 2015. Please submit comments to Harvey Ball via email harvey.ball@hhs.gov.

Dated: July 2, 2015.
Nicole Lurie,
Assistant Secretary for Preparedness and Response.

[FR Doc. 2015-16969 Filed 7-10-15; 8:45 am]

BILLING CODE P